DEPARTMENT OF HEALTH AND HUMAN SERVICES

Centers for Disease Control and Prevention

[30Day-14-0406]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an email to omb@cdc.gov. Send written comments to CDC Desk Officer, Office of Management and Budget, Washington, DC or by fax to (202) 395-5806. Written comments should be received within 30 days of this notice.

Proposed Project

State and Local Area Integrated Telephone Survey (SLAITS) (The National Survey of the Diagnosis and Treatment of Attention Deficit/Hyperactivity Disorder and Tourette Syndrome) (NS-DATA), (OMB No. 0920-0406, Expiration 04/30/2014)—Discretionary—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. This discretionary submission is to notify the public of a request to initiate another project within the SLAITS mechanism.

SLAITS is an integrated and coordinated survey system that has been conducted since 1997, in accordance with the 1995 initiative to increase the integration of surveys within DHHS. It is designed to collect needed health and well-being data at the national, state, and local levels. Using the large sampling frame of the ongoing National Immunization Survey (NIS) and Computer Assisted Telephone Interviewing (CATI), and when necessary independent samples, mail, and Internet modes to support data collection activities, SLAITS has quickly collected and produced household and person-level data to monitor health-related areas. Questionnaire content is drawn from existing surveys within DHHS and other Federal agencies, or developed specifically to meet project sponsor needs.

This project consists of a national survey designed to collect information about families with children who have previously been diagnosed with either Attention Deficit/Hyperactivity Disorder (ADHD) and/or Tourette Syndrome (TS). The primary goal of the study is to describe the various pathways to diagnosis and treatments for children diagnosed with either condition. The survey contains questions on diagnosis history, the presence of co-occurring disorders, medication and treatment usage, as well as academic performance and symptom measures.

Approximately 3,700 parents or guardians of children previously diagnosed with ADHD and/or TS located throughout the United States will be interviewed. The annual burden hours requested is 1,850 hours or 0.5 hours per respondent. The annualized cost to respondents is estimated at $38,850 or $10.50 per respondent.

Estimated Annualized Burden Hours
Type of respondent | Form name | Number of respondents | Responses per respondent | Average burden per response (in hours)
Parent or Guardian | The National Survey of the Diagnosis and Treatment of Attention Deficit/Hyperactivity Disorder and Tourette Syndrome | 3,700 | 1 | 30/60

LeRoy A. Richardson,
Chief, Information Collection Review Office, Office of Scientific Integrity, Office of the Associate Director for Science, Office of the Director, Center for Disease Control and Prevention.

[FR Doc. 2013-26089 Filed 10-31-13; 8:45 am]

BILLING CODE 4163-18-P